INTERNATIONAL TRADE COMMISSION

[Investigation No. 731-TA-724 (Review)]

Manganese Metal from China

AGENCY: International Trade Commission.

ACTION: Termination of five-year review.

SUMMARY: The subject five-year review was initiated in January 2001 to determine whether revocation of the antidumping duty order on manganese metal from China would be likely to lead to continuation or recurrence of dumping and of material injury to a domestic industry. On April 2, 2001, the Department of Commerce published notice that it was revoking the order “(b)ecause the domestic interested parties have withdrawn, in full, their participation in the ongoing sunset reviews” (66 FR 17524). Accordingly, pursuant to section 751(c) of the Tariff Act of 1930 (19 U.S.C. 1675(c)), the subject review is terminated.

EFFECTIVE DATE: April 2, 2001.

FOR FURTHER INFORMATION CONTACT: Vera Libeau (202-205-3176), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public

Authority: This review is being terminated under authority of title VII of the Tariff Act of 1930; this notice is published pursuant to § 207.69 of the Commission's rules (19 CFR 207.69).

Issued: April 4, 2001.
By order of the Commission.
Donna R. Koehnke,
Secretary.

[FR Doc. 01-8653 Filed 4-6-01; 8:45 am]

BILLING CODE 7020-02-U